DEPARTMENT OF AGRICULTURE

Agricultural Marketing Service

[Docket No. DA-07-02]

Milk in the Northeast and Other Marketing Areas; Notice of Intent To Hold Public Information Session Prior to Hearing

AGENCY: Agricultural Marketing Service, USDA.

ACTION: Notice; notice of intent to hold public information session prior to hearing.

SUMMARY: This notice announces a public information session to be held addressing proposals received to amend the Federal order Class III and Class IV product price formulas. The purpose of the pre-hearing information session is for interested parties to learn about the intent of proposals that have been submitted to amend Class III and Class IV product price formulas and how the proposals would accomplish that intent. The session is intended to clarify the intent and effect of proposed amendments. The session will enable proponents to better prepare testimony and evidence in support of, or in opposition to, proposals that may be included in the Hearing Notice announcing the Class III/IV hearing.

DATES: The session will begin at 8:30 a.m. on December 5, 2006.

ADDRESSES: The information session will be held in the USDA Whitten Building, 1400 Independence Avenue, SW., Room 107-A, Washington, DC 20250.

FOR FURTHER INFORMATION CONTACT: Gino Tosi, Associate Deputy Administrator, USDA/AMS/Dairy Programs, Order Formulation and Enforcement Branch, Stop 0231-Room 2971, 1400 Independence Avenue, SW., Washington, DC 20250-0231, (202) 720-7182, e-mail address: gino.tosi@usda.gov.

SUPPLEMENTARY INFORMATION: The Notice of Intent to Reconvene National Hearing published in the Federal Register on June 28, 2006 (FR 71 36715) solicited proposals regarding product price formulas that establish Federal order Class III and Class IV prices. Proposals were due on or before September 30, 2006.

The Department recognizes the importance of Class III and IV product pricing formulas and is hosting a public information session to ensure that all proposals received are fully understood. Participation in the information session is strongly encouraged by all parties who have submitted proposals. Submitted proposals and information regarding the purpose and procedure of the information session are available through all Market Administrator offices and Dairy Programs Web site at http://www.ams.usda.gov/dairy.

The Department will issue a hearing notice announcing the date, location and the proposals to be considered at the hearing.

Dated: November 9, 2006.
Lloyd C. Day,
Administrator, Agricultural Marketing Service.

[FR Doc. E6-19316 Filed 11-15-06; 8:45 am]

BILLING CODE 3410-02-P